DEPARTMENT OF JUSTICE

Notice of Lodging of Proposed Consent Decree under the Comprehensive Environmental Response, Compensation and Liabilty Act (“CERCLA”)

On January 2, 2015, the Department of Justice lodged a proposed consent decree (“proposed Decree”) with the United States District Court for the Western District of Pennsylvania in the lawsuit entitled United States and the Commonwealth of Pennsylvania Department of Environmental Protection v. American Iron and Metal Company, Inc., et al., Civil Action No. 2:14-cv-01734-MRH.

The United States filed this lawsuit under the Comprehensive Environmental Response, Compensation and Liability Act (CERCLA) and the complaint names American Iron and Metal Company, Inc.; Garfield Alloys, Inc.; Pace Industries on behalf of Leggett and Platt, Inc.; Magnesium Products of America, Inc.; Spartan Light Metals Products, LLC; and SPX Corporation as defendants. The complaint requests recovery of costs that the United States incurred responding to releases of hazardous substances at the Remacor Site in West Pittsburg, Lawrence County, Pennsylvania. All defendants signed the consent decree, and collectively agree to pay $5,920,000 of the United States' past response costs. In return, the United States agrees not to sue the defendants under section 107(a) of CERCLA, 42 U.S.C. 9607(a).

The publication of this notice opens a period for public comment on the proposed Decree. Comments should be addressed to the Assistant Attorney General, Environment and Natural Resources Division, and should refer to United States and the Commonwealth of Pennsylvania Department of Environmental Protection v. American Iron and Metal Company, Inc., et al., D.J. Ref. No. 90-11-3-09682/2. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $7.00 (25 cents per page reproduction cost) payable to the United States Treasury.

Maureen Katz,
Assistant Section Chief, Environmental Enforcement Section, Environment and Natural Resources Division.

[FR Doc. 2015-00069 Filed 1-7-15; 8:45 am]

BILLING CODE 4410-15-P